POSTAL RATE COMMISSION

Joint Briefing on Commission Functions and Greeting Card Industry Issues

AGENCY: Postal Rate Commission.

ACTION: Notice of briefing.

SUMMARY: On April 5, 2005, briefings on the Commission's role in rate setting and on greeting card industry issues will take place in the Commission's conference room. Participants will include Commissioners, greeting card industry executives, and staff.

DATES: April 5, 2005.

ADDRESSES: Postal Rate Commission, 1333 H Street, NW., Suite 300, Washington, DC 20268-0001.

FOR FURTHER INFORMATION CONTACT: Stephen L. Sharfman, General Counsel, 202-789-6818.

Dated: March 29, 2005.
Steven W. Williams,
Secretary.

[FR Doc. 05-6496 Filed 3-31-05; 8:45 am]

BILLING CODE 7710-FW-M